FEDERAL COMMUNICATIONS COMMISSION

47 CFR Part 73

[DA 01-562 MM Docket Nos. 01-01-59, 01-60; RM-10072, RM-10073]

Radio Broadcasting Services; Salem, Mollalla, Oregon; Avon, Fairport, New York

AGENCY: Federal Communications Commission.

ACTION: Proposed rule.

SUMMARY: The Commission requests comment on two petitions for rulemaking. One filed by Entercom Portland License , LLC., licensee of Station KRSK(FM), Salem, Oregon, proposes the reallotment of Channel 286C from Salem to Mollalla, Oregon. Channel 286C can be allotted at Mollalla in compliance with the Commission's minimum distance separation requirements, with respect to domestic allotments, at petitioner's existing site at coordinates 45-00-35 NL and 122-20-17 WL. The second, filed by Entercom RochesterLicense, LLC, licensee of Station WBBF-FM, Avon, New York, proposes the reallotment of Channel 227A from Avon to Fairport, New York. Channel 227A can be allotted at Fairport in compliance with the Commission's minimum distance separation requirements, with respect to domestic allotments, at a site 9.2 kilomters (5.7 miles) north of the community at coordinates 43-10-37 NL and 77-28-39 WL.

ADDRESSES: Federal Communications Commission, 445 Twelfth Street, SW., Washington, DC 20554. In addition to filing comments with the FCC, interested parties should serve the petitioner, as follows:

DATES: Comments must be filed on or before April 23, 2001 and reply comments must be filed on or before May 8, 2001 .

FOR FURTHER INFORMATION CONTACT: Victoria M. McCauley, Mass Media Bureau, (202) 418-2180.

SUPPLEMENTARY INFORMATION: This is a synopsis of the Commission's Notice of Proposed Rule Making, MM Docket Nos. 01-59 and 01-60, adopted February 21, 2001, and released March 2, 2001. The full text of this Commission decision is available for inspection and copying during normal business hours in the FCC Reference Center (Room 239), 445 12th Street, SW., Washington, DC. The complete text of this decision may also be purchased from the Commission's copy contractor, International Transcription Services, Inc., (202) 857-3800, 1231 20th Street, NW., Washington, DC 20036.

List of Subjects in 47 CFR Part 73

Radio broadcasting.

Part 73 of Title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Oregon is amended by removing Salem, Channel 286C and adding Mollalla, Channel 286C.

3. Section 73.202(b), the Table of FM Allotments under New York is amended by removing Avon , Channel 227A, and adding Fairport, Channel 227A.

Federal Communications Commission.
John A. Karousos,
Chief, Allocations Branch, Policy and Rules Division, Mass Media Bureau.

[FR Doc. 01-6408 Filed 3-14-01; 8:45 am]

BILLING CODE 6712-01-U